DEPARTMENT OF TRANSPORTATION

Federal Highway Administration

Environmental Impact Statement: Missoula County, MT

AGENCY: Federal Highway Administration (FHWA), DOT.

ACTION: Notice of Intent.

SUMMARY: The FHWA is issuing this notice to advise the public that an environmental impact statement will be prepared in accordance with the National Environmental Policy Act for proposed transportation improvements in the vicinity of Miller Creek Road in Missoula County, Montana.

FOR FURTHER INFORMATION CONTACT: Mr. Craig Genzlinger, P.E., Operations Engineer, Federal Highway Administration, 2880 Skyway Drive, Helena, Montana 59602; Telephone (406) 449-5302, extension 240 or Ms. Jeanette Lostracco, Carter & Burgess, Inc., 707 17th Street, Suite 2300, Denver, Colorado, 80202; Telephone (303) 820-4808.

SUPPLEMENTARY INFORMATION: The FHWA hereby gives notice that it intends to prepare an Environmental Impact Statement (EIS) in accordance with the National Environmental Policy Act (NEPA), Pub. L. 91-190, 83 Stat. 852, 1969), as amended, for road and bridge improvements in the vicinity of Miller Creek Road, Missoula County, Montana. The study area is approximately four miles long and three miles wide including portions of US 93, the Bitterroot River, the city of Missoula, Missoula County and Lolo National Forest. The study area begins near the intersection of Miller Creek Road and US 93 to the north and extends southward approximately four miles along US 93. The east-west boundaries are approximately .25 miles west of US 93 and approximately 2.5 miles east of US 93.

Alternatives being considered will include a no build and build alternatives. The build alternatives will connect to US 93 and provide a new structure crossing the Bitterroot River.

Improvements to the corridor are necessary as the population is expected to increase in the near future. The need for a second connection to U.S. 93 in this area has been a priority to the local community, Missoula County, and the city of Missoula. A second entrance into the Miller Creek area is needed for safety and to relieve congestion. An additional access could provide regional benefits to connectivity, improving air quality by reducing total vehicle miles traveled (VMT), improving pedestrian and bike circulation, facilitating bus service to the Miller Creek and Linda Vista area, and providing secondary emergency egress and, potentially, improved emergency response times.

Letters describing the proposed action and soliciting comments will be sent to appropriate Federal, State and local agencies, and to private organizations and citizens who have previously expressed or are known to have an interest in this proposal. A formal public scoping meeting is scheduled for Wednesday, March 26th from 5 p.m. to 8 p.m. at the Linda Vista Golf Course Clubhouse located on 4915 Lower Miller Creek Road, Missoula, Montana. Brief identical presentations will be given at 6 p.m. and 7 p.m. A series of public meetings will be held in Missoula. In addition, a public hearing will be held. Public notice will be given of the time and place of the meetings and hearing. The draft EIS will be available for public and agency review and comment prior to the public hearing.

To ensure that the full range of issues related to this proposed action are addressed and all significant issues identified, comments and suggestions are invited from all interested parties. Comments or questions concerning this proposed action and the EIS should be directed to the FHWA at the address provided above. Additional project information can be obtained at the Web site (www.millereis.com) or from the Telephone Information ‘Hotline’ (1-800-865-6905).

(Catalog of Federal Domestic Assistance Program Number 20.205, Highway Planning and Construction. The regulations implementing Executive Order 12372 regarding intergovernmental consultation on Federal programs an activities apply to this proposed action.)

(Authority: 23 U.S.C. 315; 49 CFR 1.48)

Issued February 25, 2003.
Dale Paulson,
Program Development Engineer, Montana Division, Federal Highway Administration, Helena, MT 59602.

[FR Doc. 03-4856 Filed 2-28-03; 8:45 am]

BILLING CODE 4910-22-M